ENVIRONMENTAL PROTECTION AGENCY

40 CFR Part 261

Identification and Listing of Hazardous Waste

CFR Correction

In Title 40 of the Code of Federal Regulations, Parts 260 to 265, revised as of July 1, 2005, in Appendix IX to Part 261, on pages 129 and 130, in the second column under “Address”, transfer entries 2 and 3 to the third column under “Waste description”.

[FR Doc. 05-55515 Filed 10-14-05; 8:45 am]

BILLING CODE 1505-01-D